NATIONAL SCIENCE FOUNDATION

Committee Management Renewal

The NSF management officials having responsibility for the advisory committee listed below has determined that renewing this committee for another two years is necessary and in the public interest in connection with the performance of duties imposed upon the Director, National Science Foundation (NSF), by 42 U.S.C. 1861 et seq. This determination follows consultation with the Committee Management Secretariat, General Services Administration.

Committee

Advisory Committee for Polar Programs, #1130

Effective date for renewal is March 14, 2019. For more information, please contact Crystal Robinson, NSF, at (703) 292-8687.

Dated: March 14, 2019.
Crystal Robinson,
Committee Management Officer.

[FR Doc. 2019-05172 Filed 3-18-19; 8:45 am]

BILLING CODE 7555-01-P